DEPARTMENT OF THE INTERIOR

Bureau of Indian Affairs

[K00103 12/13 A3A10; 134D0102DR-DS5A300000-DR.5A311.IA000113]

25 CFR Part 162

RIN 1076-AE73

Residential, Business, and Wind and Solar Resource Leases on Indian Land

AGENCY: Bureau of Indian Affairs, Interior.

ACTION: Final rule; correcting amendment.

SUMMARY: The Bureau of Indian Affairs (BIA) published a rule in the Federal Register of December 5, 2012, announcing the revisions to regulations addressing non-agricultural surface leasing of Indian land. This notice makes a minor correction to redesignate section numbers for sections that were moved to a new subpart.

DATES: This correction is effective on May 13, 2013.

FOR FURTHER INFORMATION CONTACT: Elizabeth Appel, Acting Director, Office of Regulatory Affairs & Collaborative Action, (202) 273-4680; elizabeth.appel@bia.gov.

SUPPLEMENTARY INFORMATION:

Need for Correction

The final regulations (77 FR 72440) addressing non-agricultural surface leasing of Indian land, and redesignating certain sections related to agricultural leases, failed to specifically redesignate the section numbers of sections being moved to subpart F. This document corrects that error.

List of Subjects in 25 CFR Part 162

Indians—lands.

Accordingly, 25 CFR part 162 is corrected by making the following correcting amendment:

PART 162—LEASES and PERMITS

1. The authority citation continues to read as follows:

Authority: 5 U.S.C. 301, R.S. 463 and 465; 25 U.S.C. 2 and 9. Interpret or apply sec. 3, 26 Stat. 795, sec. 1, 28 Stat. 305, secs. 1, 2, 31 Stat. 229, 246, secs. 7, 12, 34 Stat. 545, 34 Stat. 1015, 1034, 35 Stat. 70, 95, 97, sec. 4, 36 Stat. 856, sec. 1, 39 Stat. 128, 41 Stat. 415, as amended, 751, 1232, sec. 17, 43 Stat. 636, 641, 44 Stat. 658, as amended, 894, 1365, as amended, 47 Stat. 1417, sec. 17, 48 Stat. 984, 988, 49 Stat. 115, 1135, sec. 55, 49 Stat. 781, sec. 3, 49 Stat. 1967, 54 Stat. 745, 1057, 60 Stat. 308, secs. 1, 2, 60 Stat. 962, sec. 5, 64 Stat. 46, secs. 1, 2, 4, 5, 6, 64 Stat. 470, 69 Stat. 539, 540, 72 Stat. 968, 107 Stat. 2011, 108 Stat. 4572, March 20, 1996, 110 Stat. 4016; 25 U.S.C. 380, 393, 393a, 394, 395, 397, 402, 402a, 403, 403a, 403b, 403c, 409a, 413, 415, 415a, 415b, 415c, 415d, 416, 477, 635, 2201 et seq., 3701, 3702, 3703, 3712, 3713, 3714, 3715, 3731, 3733, 4211; 44 U.S.C. 3101 et seq.

2. Under the heading Subpart F—Special Requirements for Certain Reservations, redesignate §§ 162.500 through 162.503, as §§ 162.600 through 162.603.

Dated: May 3, 2013.
Kevin K. Washburn,
Assistant Secretary—Indian Affairs.

[FR Doc. 2013-11241 Filed 5-10-13; 8:45 am]

BILLING CODE 4310-6W-P